DEPARTMENT OF TRANSPORTATION

Federal Highway Administration

[Docket No. FHWA-2007-28310]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on March 9, 2007. We are required to publish this notice in the Federal Register by the Paperwork Reduction Act of 1995.

DATES: Please submit comments by July 9, 2007.

ADDRESSES: You may send comments within 30 days to the Office of Information and Regulatory Affairs, Office of Management and Budget, 725 17th Street., NW, Washington, DC 20503, or e-mail at oira_submission@omb.eop.gov, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2007-28310.

FOR FURTHER INFORMATION CONTACT: For information regarding the Eisenhower Transportation Fellowship Program, contact Gwen Sutton, 703-235-0538, Office of Professional and Corporate Development, Federal Highway Administration, Department of Transportation, 4600 N. Fairfax Drive, Suite 800, Arlington, VA 22203. Office hours are from 8 a.m. to 5 p.m., Monday through Friday, except Federal holidays.

SUPPLEMENTARY INFORMATION: Title: Dwight David Eisenhower Transportation Fellowship Program.

Background: The Dwight David Eisenhower Transportation Fellowship Program is authorized by Public Law 109-59, the Safe, Accountable, Flexible, Efficient Transportation Equity Act: A Legacy for Users of 2005 (SAFETEA-LU). The purpose of the fellowship is to advance transportation education and research, and attract qualified students to the field of transportation. The Eisenhower Transportation Fellowship allows for the collection and analysis of vital program information, also serving as a management tool to measure program performance and evaluate effectiveness in meeting Federal intent and workforce development common goals and objectives. An application form is used to collect basic information from the student to determine eligibility and qualifications for fellowship.

Respondents: Approximately 200 students submit applications each year.

Frequency: Annually.

Estimated Average Burden per Response: The estimated burden to complete the application is 3 hours.

Estimated Total Annual Burden Hours: Approximately 600 hours annually.

Electronic Access: Internet users may access all comments received by the U.S. DOT Dockets, Room PL-401, by using the universal resource locator (URL): http://dms.dot.gov, 24 hours each day, 365 days each year. Please follow the instructions online for more information and help.

Authority: The Paperwork Reduction Act of 1995; 44 U.S.C. Chapter 35, as amended; and 49 CFR 1.48.

Issued on: June 4, 2007.
James R. Kabel,
Chief, Management Programs and Analysis Division.

[FR Doc. E7-11127 Filed 6-7-07; 8:45 am]

BILLING CODE 4910-22-P